DEPARTMENT OF HOMELAND SECURITY

Federal Emergency Management Agency

[Internal Agency Docket No. FEMA-4335-DR; Docket ID FEMA-2018-0001]

Virgin Islands; Amendment No. 7 to Notice of a Major Disaster Declaration

AGENCY: Federal Emergency Management Agency, DHS.

ACTION: Notice.

SUMMARY: This notice amends the notice of a major disaster for the territory of the U.S. Virgin Islands (FEMA-4335-DR), dated September 7, 2017, and related determinations.

DATES: This amendment was issued May 18, 2018.

FOR FURTHER INFORMATION CONTACT: Dean Webster, Office of Response and Recovery, Federal Emergency Management Agency, 500 C Street SW, Washington, DC 20472, (202) 646-2833.

SUPPLEMENTARY INFORMATION: Notice is hereby given that, in a letter dated May 18, 2018, the President amended the cost-sharing arrangements regarding Federal funds provided under the authority of the Robert T. Stafford Disaster Relief and Emergency Assistance Act, 42 U.S.C. 5121 et seq. (the “Stafford Act”), in a letter to Brock Long, Administrator, Federal Emergency Management Agency, Department of Homeland Security, under Executive Order 12148, as follows:

I have determined that the damage in the territory of the U.S. Virgin Islands resulting from Hurricane Irma during the period of September 5-7, 2017, is of sufficient severity and magnitude that special cost-sharing arrangements are warranted regarding Federal funds provided under the Robert T. Stafford Disaster Relief and Emergency Assistance Act, 42 U.S.C. 5121 et seq. (the “Stafford Act”).

Therefore, I amend my declarations of September 7, 2017, September 9, 2017, September 26, 2017, and March 15, 2018, to authorize the following: 90 percent Federal funding for Other Needs Assistance under section 408 of the Stafford Act and all categories of Public Assistance, except for assistance previously approved at 100 percent; a 120-day extension of the 100 percent Federal cost share for debris removal and emergency protective measures, with the extension of emergency protective measures being limited to Sheltering and Temporary Essential Power (STEP); and a waiver of the non-Federal cost share for hazard mitigation measures authorized by section 404 of the Stafford Act, provided hazard mitigation grant funding is prioritized toward protecting Federal investments in the territory.

(The following Catalog of Federal Domestic Assistance Numbers (CFDA) are to be used for reporting and drawing funds: 97.030, Community Disaster Loans; 97.031, Cora Brown Fund; 97.032, Crisis Counseling; 97.033, Disaster Legal Services; 97.034, Disaster Unemployment Assistance (DUA); 97.046, Fire Management Assistance Grant; 97.048, Disaster Housing Assistance to Individuals and Households In Presidentially Declared Disaster Areas; 97.049, Presidentially Declared Disaster Assistance—Disaster Housing Operations for Individuals and Households; 97.050 Presidentially Declared Disaster Assistance to Individuals and Households—Other Needs; 97.036, Disaster Grants—Public Assistance (Presidentially Declared Disasters); 97.039, Hazard Mitigation Grant.

Brock Long,
Administrator, Federal Emergency Management Agency.

[FR Doc. 2018-12749 Filed 6-13-18; 8:45 am]

BILLING CODE 9111-23-P